DEPARTMENT OF THE INTERIOR

Bureau of Land Management

[ID-070-1020-XQ]

Resource Advisory Council Meeting Locations and Times

AGENCY: Bureau of Land Management, Interior.

SUMMARY: In accordance with the Federal Land Policy and Management Act and the Federal Advisory Committee Act of 1972 (FACA), 5 U.S.C., the Department of the Interior, Bureau of Land Management (BLM) council meeting of the Upper Snake River District Resource Advisory Council (RAC) will be held as indicated below. The primary agenda item for this meeting will be a field trip to the Pleasant View Allotment that will give RAC members a better understanding of the application of Standards for Rangeland Health and Guidelines for Grazing Management. Other agenda items may be added between publication of this notice and the meeting. All meetings are open to the public. The public may present written or oral comments to the council. Each formal council meeting will have a time allocated for hearing public comments. The public comment period for the council meetings is listed below. Depending on the number of persons wishing to comment, and the time available, the time for individual oral comments may be limited. Individuals who plan to attend and need further information about the meetings, or need special assistance such as sign language interpretation or other reasonable accommodations should contact David Howell at the Upper Snake River District Office, 1405 Hollipark Dr., Idaho Falls, ID 83401, or telephone (208) 524-7559.

DATES AND TIMES: The next meeting will be held Friday, August 4, 2000. The meeting will start at the BLM's Pocatello Field Office, 1111 8th Avenue in Pocatello, Idaho, beginning at 9 a.m. The field trip to the Pleasant View Allotment will begin shortly after the meeting convenes public comments, if any, are presented. The meeting is scheduled to end at about 4 p.m.

SUPPLEMENTARY INFORMATION: The purpose of the Resource Advisory Council is to advise the Secretary of the Interior, through the BLM, on a variety of planning and management issues associated with the management of the of the public lands.

FOR FURTHER INFORMATION CONTACT: David Howell, Upper Snake River District, 1405 Hollipark Dr., Idaho Falls, ID 83401, (208) 524-7559.

Dated: June 22, 2000.
James E. May,
Upper Snake River District Manager.

[FR Doc. 00-17481 Filed 7-10-00; 8:45 am]

BILLING CODE 4310-GG-P